DEPARTMENT OF HEALTH AND HUMAN SERVICES

Centers for Disease Control and Prevention

[30 Day-13-12QR]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7570 or send an email to omb@cdc.gov. Send written comments to CDC Desk Officer, Office of Management and Budget, Washington, DC 20503 or by fax to (202) 395-5806. Written comments should be received within 30 days of this notice.

Proposed Project

Monitoring and Reporting System For DELTA FOCUS Awardees—New—National Center for Injury Prevention and Control (NCIPC), Centers for Disease Control and Prevention (CDC).

Background and Brief Description

Intimate Partner Violence (IPV) is a serious, preventable public health problem that affects millions of Americans and results in serious consequences for victims, families, and communities. IPV occurs between two people in a close relationship. The term “intimate partner” describes physical, sexual, or psychological harm by a current or former partner or spouse. IPV can impact health in many ways, including long-term health problems, emotional impacts, and links to negative health behaviors. IPV exists along a continuum from a single episode of violence to ongoing battering; many victims do not report IPV to police, friends, or family.

The purpose of the DELTA FOCUS (Domestic Violence Prevention Enhancement and Leadership Through Alliances, Focusing on Outcomes for Communities United with States) program is to promote the prevention of IPV through the implementation and evaluation of strategies that create a foundation for the development of practice-based evidence. By emphasizing primary prevention, this program will support comprehensive and coordinated approaches to IPV prevention. The strategies will address the structural determinants of health at the outer layers (societal and community) of the social ecological model (SEM) that coordinate and align with existing prevention strategies at the inner layers of the SEM. This program addresses the “Healthy People 2020” focus area(s) of Injury and Violence Prevention and Social Determinants of Health.

CDC seeks OMB approval to collect information electronically from awardees funded under the DELTA FOCUS cooperative agreement program. Information will be collected from DELTA FOCUS awardees through an electronic Performance Management Information System (PMIS). Information collected through the PMIS will be used to inform performance monitoring, program evaluation, responding to requests from the National Center for Injury Prevention and Control, Department of Health and Human Services, White House, Congress, and other sources. DELTA FOCUS awardees will use the information collection to manage and coordinate their activities and to improve their efforts to prevent IPV.

Anticipated respondents are a maximum of 10 awardees for the DELTA FOCUS (Domestic Violence Prevention Enhancement and Leadership Through Alliances, Focusing on Outcomes for Communities United with States) All respondents will be state and territorial domestic violence coalitions. Estimated burden for the first-time population of the PMIS is fifteen hours. Semi-Annual Reporting is estimated at three hours per respondent.

There are no costs to respondents other than their time. Total estimated annual burden hours are 210.

Estimated Annualized Burden to Respondents
Type of respondents | Form name | Number of respondents | Number of responses per respondent | Average burden per response (in hours) | Total burden (in hours)
State Domestic Violence Coalitions | DELTA FOCUS PMIS: Initial population | 10 | 1 | 15 | 150
| DELTA FOCUS PMIS: Semi-annual reporting | 10 | 2 | 3 | 60

Dated: March 15, 2013.
Ron A. Otten,
Director, Office of Scientific Integrity (OSI), Office of the Associate Director for Science (OADS), Office of the Director.

[FR Doc. 2013-06496 Filed 3-20-13; 8:45 am]

BILLING CODE 4163-18-P